DEPARTMENT OF STATE

[Public Notice 5875]

Determination on U.S. Position on Proposed European Bank for Reconstruction and Development (EBRD) Projects in Serbia and Bosnia and Herzegovina

Pursuant to section 561 of the Foreign Operations, Export Financing, and Related Programs Appropriations Act, 2006 (Pub. L. 109-102) (FOAA), and Department of State Delegation of Authority Number 289, I hereby determine that the two proposed EBRD projects, one to provide 25.1 million euro equity investment and a 27.5 million euro loan for tourism facility development in the region and one to provide a 35 million euro equity investment for expanded pension fund management in the region, will contribute to a stronger and more integrated economy in Serbia and Bosnia and Herzegovina and directly support implementation of the Dayton Accords. I therefore waive the application of Section 561 of the FOAA to the extent that provision would otherwise prevent the U.S. Executive Directors of the EBRD from voting in favor of these projects.

This Determination shall be reported to the Congress and published in the Federal Register.

Dated: February 13, 2007.
Daniel Frie,
Assistant Secretary of State for European and Eurasian Affairs Department of State.

[FR Doc. E7-15241 Filed 8-3-07; 8:45 am]

BILLING CODE 4710-23-P